DEPARTMENT OF HEALTH AND HUMAN SERVICES

Centers for Medicare and Medicaid Services

[Document Identifiers: CMS-R-289, CMS-10082, CMS 1763, and CMS-4040 and 4040-SP]

Agency Information Collection Activities: Proposed Collection; Comment Request

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Revision of a currently approved collection; Title of Information Collection: Medicare Lifestyle Modification Program Demonstration and Addendum; Form No.: CMS-R-289 (OMB# 0938-0777); Use: This demonstration focuses on Medicare sponsored, lifestyle modification programs designed to reverse, reduce, or ameliorate the progression of cardiovascular disease (CAD) of Medicare beneficiaries at risk for invasive treatment procedures. This demonstration tests the feasibility and cost effectiveness of providing payment for cardiovascular lifestyle modification program services to Medicare beneficiaries; Frequency: On occasion, Weekly, Monthly, Quarterly; Affected Public: Individuals or Households, and Not-for-profit Institutions; Number of Respondents: 44; Total Annual Responses: 17,996; Total Annual Hours: 2,999.

(2) Type of Information Collection Request: New collection; Title of Information Collection: Survey of States Performance Measurement Reporting Capability; Form No.: CMS-10082 (OMB# 0938-NEW); Use: Because of the wide variability of Medicaid and SCHIP financing and service delivery approaches, there is little common ground from which to develop uniform reporting on performance measures by states. While CMS has decided on the first seven measures to be used, the ability of states to calculate those measures using HEDIS directly or HEDIS specifications (e.g., when calculating measures from fee-for-service claims data) is highly variable. Current efforts are focused on assessing the capability of each state to report on the selected measures and on helping states to make necessary adjustments in order to be able to report measures uniformly so that state-to-state comparisons can be made. To accomplish this, states will be requested to report available numerator and denominator data for the seven core HEDIS measures via a survey instrument created for this purpose. The data will be requested for each state's Medicaid and SCHIP programs by delivery system; Frequency: Once; Affected Public: State, local, and tribal government; Number of Respondents: 51; Total Annual Responses: 51; Total Annual Hours: 2,360.

(3) Type of Information Collection Request: Extension of a currently approved collection; Title of Information Collection: Request for Termination of Premium+Hospital and/or Supplementary Medical Insurance; Form No.: CMS-1763 (OMB# 0938-0025); Use: The CMS-1763 is used by beneficiaries to request voluntary termination from Premium Hospital Insurance (premium-HI) and/or Supplementary Medicare Insurance (SMI); Frequency: One time only; Affected Public: Individuals or Households, Federal Government, State, local, and tribal government; Number of Respondents: 14,000; Total Annual Responses: 14,000; Total Annual Hours: 5,833.

(4) Type of Information Collection Request: Extension of a currently approved collection; Title of Information Collection: Request for Enrollment in Supplemental Medicare Insurance and Supporting Regulations in 42 CR 407.10 and 401.11; Form No.: CMS-4040 and 4040-SP (OMB# 0938-0245); Use: The CMS 4040 is used to establish entitlement to Supplemental Medical Insurance (Part B) by beneficiaries not eligible under Part A of the Title XVIII or Title II of the Social Security Act. The CMS-4040SP is also included in this renewal; Frequency: One time only; Affected Public: Individuals or Households, Federal Government, State, local, and tribal government; Number of Respondents: 10,000; Total Annual Responses: 10,000; Total Annual Hours: 2,500.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: January 30, 2003.
John P. Burke, III,
CMS Reports Clearance Officer, Office of Strategic Operations and Strategic Affairs, Division of Regulations Development and Issuances.

[FR Doc. 03-2999 Filed 2-6-03; 8:45 am]

BILLING CODE 4120-03-P